DEPARTMENT OF THE INTERIOR

Bureau of Indian Affairs

[190A2100DD/A0A501010.999900 253G]

Notice of Intent To Prepare an Environmental Impact Statement for the Proposed Campo Wind Energy Project, San Diego, California

AGENCY: Bureau of Indian Affairs, Interior.

ACTION: Notice of intent.

SUMMARY: This notice advises the public that the Bureau of Indian Affairs (BIA), as lead agency, with the Campo Band of Diegueno Mission Indians of the Campo Indian Reservation (Tribe) as a cooperating agency, intends to gather information necessary for preparing an Environmental Impact Statement (EIS) for the proposed Campo Wind Project, located on the Campo Indian Reservation (Reservation) in southeastern San Diego County, approximately 60 miles east of San Diego, California. Construction of the Campo Wind Project is subject to BIA approval of a lease and sublease, which, as proposed, is a major Federal action under the National Environmental Policy Act of 1969 (NEPA), as amended. A brief description of the proposed action is provided below in the SUPPLEMENTARY INFORMATION section. This notice also announces a public scoping meeting to identify potential issues, concerns, and alternatives to be considered in the EIS. The scoping process will include notice to the public and Federal, State, local, and Tribal agencies of the proposed action.

DATES: Written comments on the scope and implementation of this proposal must arrive by 11:59 p.m. on December 21, 2018. The date and location of the public hearing on the EIS will be announced at least 15 days in advance through a notice to be published in local newspapers (The San Diego Union Tribune and The San Diego Business Journal) and online at: www.campowind.com.

ADDRESSES: The public may mail or hand-carry written comments to Ms. Amy Dutschke, Regional Director, Bureau of Indian Affairs, 2800 Cottage Way, Sacramento, California 95825. You may also submit comments through email to Mr. Dan (Harold) Hall, Acting Chief, Division of Environmental, Cultural Resource Management and Safety, Bureau of Indian Affairs, at harold.hall@bia.gov. More information can be found in the SUPPLEMENTARY INFORMATION section of this notice.

Please include the commenter's name, title, return address, and “EIS Scoping Comments, Campo Wind Project, San Diego County, California,” on the first page of the written comments. The scoping meeting will be held at Campo Indian Reservation Tribal Hall, 36190 Church Road (BIA Road 10), Campo, California 91906.

FOR FURTHER INFORMATION CONTACT: Mr. Dan (Harold) Hall Acting Chief, Division of Environmental, Cultural Resource Management and Safety, Bureau of Indian Affairs, by telephone at (916) 978-6041, or by email at harold.hall@bia.gov.

SUPPLEMENTARY INFORMATION:

Project Description

BIA approval is required for a lease and sublease to build and operate a commercial wind power generation facility capable of generating up to 252 megawatts (MW) of electricity.

The project would include the generation of up to 252 MW consisting of up to 60 turbines. The project study area covers approximately 2,200 acres on the Campo Indian Reservation. The total area that would be disturbed by the project would be substantially less. The turbines proposed for the project would range from 2.5 MW to 4.2 MW in maximum output rating per turbine, tubular steel towers, with a rotor diameter of approximately 450 feet, a hub height of approximately 361 feet, and a total height of turbine (highest point) of approximately 586 feet. Each turbine would be set on a concrete foundation. Turbines would be connected by an underground electrical collection system to a project collector substation. The collector substation would be sited on approximately 2 acres and would consist of a graveled, fenced area containing transformer and switching equipment and an area for vehicle parking. A new 230 kV overhead generation transmission line would be constructed, on the Campo Indian Reservation and partially outside on private lands, from the project collector substation on the Reservation to a San Diego Gas & Electric (SDG&E) substation/switchyard that would be constructed on private lands adjacent to the Sunrise Powerlink northeast of the Reservation. The SDG&E substation/switchyard and related transmission line improvements will be subject to approval by the County of San Diego, California, Public Utilities Commission (CPUC) and the BIA. Other required facilities, all located within the Reservation, would include: Up to three permanent meteorological towers; temporary material laydown areas during construction; temporary staging and construction trailer areas; an operations and maintenance building; underground cabling; telecommunications; new access roads and improvements to portions of existing roads; and a temporary concrete batch plant. The wind power generation facility would operate year-round for a minimum of 25 years.

The EIS will analyze the potential environmental impacts of the construction and operation of a proposed wind generation facility, including access roads, a collector substation, as well as a substation/switchyard and transmission facilities. The EIS will be prepared in accordance with NEPA (42 U.S.C. 4321 et seq.); the Council on Environmental Quality (CEQ) regulations (40 CFR parts 1500-1508); Department of the Interior regulations (43 CFR part 46); and the BIA NEPA Handbook (59 IAM 3-H) and will also be compliant with the California Environmental Quality Act in accordance with Public Resources Code section 21083.7. A reasonable range of alternatives to the proposed action including a no-action alternative, will be analyzed in the EIS. The range of issues and alternatives included will be based on comments and information received during the scoping process. This notice initiates the public scoping process to identify alternatives and relevant issues associated with the proposed project.

Directions for Submitting Public Comments

During the public scoping meetings, the public may submit written and verbal comments. Verbal comments given at the scoping meetings will have the same merit as written comments and will be addressed equally. The public may mail or hand-carry written comments to Ms. Amy Dutschke, Regional Director, Bureau of Indian Affairs, 2800 Cottage Way, Sacramento, California 95825. Please include the commenter's name, title, return address and “EIS Scoping Comments, Campo Wind Project, San Diego County, California,” on the first page of the written comments.

Public Availability of Comments

Comments, including names and addresses of respondents, will be available for public review at the BIA address shown in the ADDRESSES section of this notice, during business hours, 8 a.m. to 4:30 p.m., Monday through Friday, except holidays. Individual respondents may request confidentiality. If a commenter wishes us to withhold commenter's name and/or address from public review or from disclosure under the Freedom of Information Act, the commenter must state this prominently at the beginning of the written comment. Such requests will be honored to the extent allowed by the law, however there is a possibility that the comment(s) may be made publicly available at any time.

Authority

This notice is published in accordance with sections 1501.7 (Scoping), 1506.6 (Public involvement), and 1508.22 (Notice of Intent) of the CEQ Regulations (40 CFR parts 1500 through 1508) and section 46.305 of the Department of the Interior Regulations (43 CFR part 46), implementing the procedural requirements of NEPA, as amended (42 U.S.C. 4321 et seq.), and is in the exercise of authority delegated to the Assistant Secretary—Indian Affairs by 209 DM 8.

Dated: November 9, 2018.
Tara Sweeney,
Assistant Secretary—Indian Affairs.

[FR Doc. 2018-25412 Filed 11-20-18; 8:45 am]

BILLING CODE 4337-15-P